DEPARTMENT OF COMMERCE

National Oceanic and Atmospheric Administration

RIN: 0648-XI76

Western Pacific Fishery Management Council; Public Meeting

AGENCY: National Marine Fisheries Service (NMFS), National Oceanic and Atmospheric Administration (NOAA), Commerce.

ACTION: Notice of public meetings.

SUMMARY: This notice advises the public that the Western Pacific Fishery Management Council (Council) will convene a meeting of the Hawaii Archipelago Regional Ecosystem Advisory Committee (REAC) in Honolulu, HI.

DATES: The Hawaii Archipelago Regional Ecosystem Advisory Committee meeting will be held Thursday, July 17, 2008. For the specific date, time, and agenda for the meeting, see SUPPLEMENTARY INFORMATION.

ADDRESSES: The meeting of the Hawaii Archipelago Regional Ecosystem Advisory Committee will be held at the Council Office, 1164 Bishop St. Suite 1400, Honolulu, HI 96814.

FOR FURTHER INFORMATION CONTACT: Kitty M. Simonds, Executive Director; telephone: (808) 522-8220.

SUPPLEMENTARY INFORMATION: The date, time and agenda for the meeting is as follows:

Thursday, July 17, 2008, 9 a.m. - 5 p.m.

1. Welcome and Introduction of Members

2. Approval of Draft Agenda

3. Update on Federal Fisheries Management Actions

a. Main Hawaiian Islands bottomfish Management

b. Summary of Pelagic Fishery Management Actions

c. Discussion

4. Coastal Ecosystems

a. Fresh Water Use and Diversion in Hawaii

b. Characterization of Fish and Benthic Organisms in Pearl Harbor

5. Guest Presentations

a. Review of Global Sea Level Rise: global factors and local impacts

b. Pacific Ocean Productivity Modeling

c. Discussion

6. Community Marine Management Forum

a. Aha Moku Process

b. Discussion

7. Public Comments

8. REAC Discussion and Action

The order in which agenda items are addressed may change. Public comment periods will be provided throughout each agenda. The Regional Ecosystem Advisory Committee will meet as late as necessary to complete scheduled business.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 26, 2008.
Tracey L. Thompson,
Acting Director, Office of Sustainable Fisheries, National Marine Fisheries Service.

[FR Doc. E8-14936 Filed 7-1-08; 8:45 am]

BILLING CODE 3510-22-S